ENVIRONMENTAL PROTECTION AGENCY

[EPA-HQ-OPPT-2014-0838; FRL-10139-01-OMS]

Information Collection Request Submitted to OMB for Review and Approval; Comment Request; Assessment of Environmental Performance Standards and Ecolabels for Federal Procurement (Reinstatement)

AGENCY: Environmental Protection Agency (EPA).

ACTION: Notice.

SUMMARY: The Environmental Protection Agency has submitted the following information collection request (ICR) to the Office of Management and Budget (OMB) for review and approval in accordance with the Paperwork Reduction Act (PRA): Assessment of Environmental Performance Standards and Ecolabels for Federal Procurement (EPA ICR Number 2516.04 and OMB Control Number 2070-0199). This is a request to reinstate a previously approved ICR. Public comments were previously requested via the Federal Register on March 1, 2022, during a 60-day comment period. This notice allows for an additional 30 days for public comments. The ICR, a copy of which is in the docket and briefly summarized in this document, describes the covered information collection activities, along with the Agency's estimated burden and cost. An Agency may not conduct or sponsor and a person is not required to respond to a collection of information unless it displays a currently valid OMB control number.

DATES: Additional comments may be submitted on or before September 12, 2022.

ADDRESSES: Submit your comments to EPA, referencing Docket ID No. EPA-HQ-OPPT-2014-0838, online using https://www.regulations.gov (our preferred method), or by mail to: Environmental Protection Agency, EPA Docket Center, Mail Code 28221T, 1200 Pennsylvania Ave. NW, Washington, DC 20460. For additional delivery options and information about EPA's dockets, visit https://www.epa.gov/dockets. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch, Office of Chemical Safety and Pollution Prevention, 7101M, Environmental Protection Agency, 1200 Pennsylvania Ave. NW, Washington, DC 20460; telephone: (202) 566-1204; email: sleasman.katherine@epa.gov.

SUPPLEMENTARY INFORMATION: Supporting documents, which explain in detail the information that the EPA will be collecting, are available in the docket for this ICR. The docket can be viewed online at https://www.regulations.gov or in person at the EPA Docket Center, WJC West, Room 3334, 1301 Constitution Ave. NW, Washington, DC. The telephone number for the Docket Center is 202-566-1744. For additional information about accessing the EPA dockets, visit https://www.epa.gov/dockets.

Abstract: This ICR, which seeks to reinstate a previously approved ICR, covers the information collection activities associated with the Agency's evaluation of private sector standards and ecolabels under the updated Framework for the Assessment of Environmental Performance Standards and Ecolabels for Federal Purchasing. EPA's goal in developing this Framework is to create a transparent, fair, and consistent approach to evaluate product environmental performance standards and ecolabels for inclusion in EPA's Recommendations of Specifications, Standards, and Ecolabels for Federal Purchasing (“Recommendations”). The Recommendations help federal purchasers identify and procure environmentally preferable products and services which in turn, help to meet their sustainability goals and requirements.

Form Numbers: EPA Form No. 9600-038.

Respondents/affected entities: Environmental performance standards developers and ecolabels.

Respondent's obligation to respond: Voluntary. See 15 U.S.C. 3701 and 42 U.S.C. 13103(b)(11).

Estimated number of respondents: 100 (total).

Frequency of response: On occasion.

Total estimated burden: 707 hours (per year). Burden is defined at 5 CFR 1320.3(b).

Total estimated cost: $45,322 (per year), which includes an estimated cost of $0 for capital investment or maintenance and operational costs.

Changes in the estimates: This is a reinstatement, so there is currently no approved burden and costs. As described in more detail in the ICR, the program has been modified based on the previously approved activities associated with the 2016 pilot, including changes to the criteria/questions, Framework submission template, and the process for respondents. With this ICR, EPA is requesting approval for the average respondent burden that is estimated to be 8.5 hours per response, based on an average 12 hours for respondents that did not previously participate in the pilot and an average 5 hours for respondents that did previously participate in pilot.

Courtney Kerwin,
Director, Regulatory Support Division.

[FR Doc. 2022-17386 Filed 8-11-22; 8:45 am]

BILLING CODE 6560-50-P